DEPARTMENT OF TRANSPORTATION

Office of the Secretary

[Docket No. OST-2022-0110]

Privacy Act of 1974; System of Records

AGENCY: Office of the Departmental Chief Information Office, Office of the Secretary of Transportation, DOT.

ACTION: Rescindment of a System of Records notice.

SUMMARY: The Federal Aviation Administration proposes to rescind the Department of Transportation system of records titled, “Department of Transportation/Federal Aviation Administration (DOT/FAA) 822—Aviation Medical Examiner System.”

DATES: Applicable date: September 30, 2022.

ADDRESSES: You may submit comments, identified by docket number OST-2022-0110 by any of the following methods:

• Federal e-Rulemaking Portal: http://www.regulations.gov. Follow the instructions for submitting comments.

• Mail: Docket Management Facility, U.S. Department of Transportation, 1200 New Jersey Ave. SE, West Building Ground Floor, Room W12-140, Washington, DC 20590-0001.

• Fax: (202) 493-2251

• Hand Delivery or Courier: West Building Ground Floor, Room W12-140, 1200 New Jersey Ave. SE, between 9 a.m. and 5 p.m. ET, Monday through Friday, except Federal Holidays.

• Instructions: You must include the agency name and docket number OST-2022-0110. All comments received will be posted without change to http://www.regulations.gov, including any personal information provided.

Privacy Act: Anyone is able to search the electronic form of all comments received in any of our dockets by the name of the individual submitting the comment (or signing the comment, if submitted on behalf of an association, business, labor union, etc.).

Docket: For access to the docket to read background documents or comments received, go to http://www.regulations.gov or to the street address listed above. Follow the online instructions for accessing the docket.

FOR FURTHER INFORMATION CONTACT: For general questions, please contact: Barbara Stance, FAA Chief Privacy Officer, 202.385.6516, Federal Aviation Administration, 950 L'Enfant Plaza SW, Washington, DC 20024. For privacy issues, please contact: Karyn Gorman, Acting Departmental Chief Privacy Officer, Privacy Office, Department of Transportation, Washington, DC 20590; privacy@dot.gov; or 202.366.3140.

SUPPLEMENTARY INFORMATION:

I. Background

In accordance with the Privacy Act of 1974, 5 U.S.C. 552a, the Department of Transportation (DOT)/Federal Aviation Administration (FAA) proposes to rescind DOT system of records titled, “DOT/FAA 822—Aviation Medical Examiner System,” 65 FR 19522 (April 11, 2000). This system of records was established to determine professional qualifications and designation authorization (initial and subsequent) of Aviation Medical Examiners (AME). The categories of records included records necessary to determine professional qualifications of physicians designated (initially and subsequently) as AMEs; identify the type and location of AMEs within the AME program; monitor AMEs performance in support of the Medical Certification Program; and monitor AMEs compliance with mandatory training (initial and periodic) and other AME designation requirements. The authority for maintenance of the system was 49 U.S.C. 44702. Records previously covered by DOT/FAA 822 will be managed according to the updated DOT/FAA 830, Representatives of the Administrator. Consolidation of the Notices ensures consistency in the Privacy Act management of all designee records. Consequently, rescinding SORN 822 will have no adverse impact on individuals. Rescindment will promote the overall streamlining and management of DOT Privacy Act systems of records.

SYSTEM NAME AND NUMBER:

Department of Transportation/Federal Aviation Administration (DOT/FAA) 822—Aviation Medical Examiner System.

HISTORY:

A full notice of this system of records, DOT/FAA 822—Aviation Medical Examiner System was published in the Federal Register on April 11, 2000, at 65 FR 19522

Issued in Washington, DC.
Karyn Gorman,
Acting Departmental Chief Privacy Officer.

[FR Doc. 2022-21270 Filed 9-29-22; 8:45 am]

BILLING CODE 4910-9X-P